DEPARTMENT OF THE INTERIOR

Fish and Wildlife Service

[FWS-R9-EA-2009-N0009]; [97600-9792-0000-5d]

Sport Fishing and Boating Partnership Council

AGENCY: Fish and Wildlife Service, Interior.

ACTION: Notice of teleconference.

SUMMARY: We, the Fish and Wildlife Service (Service), announce a public teleconference of the Sport Fishing and Boating Partnership Council (Council).

DATES: We will hold the teleconference on Monday, February 23, 2009, 2-3 p.m. (Eastern time). If you wish to listen to the teleconference proceedings or submit written material for the Council to consider during the teleconference, notify Douglas Hobbs by Friday, February 13, 2009. If you wish to submit a written statement for Council consideration during the teleconference, we must receive it no later than February 16, 2009. See instructions under SUPPLEMENTARY INFORMATION.

FOR FURTHER INFORMATION CONTACT: Douglas Hobbs, Council Coordinator, 4401 N. Fairfax Dr., Mailstop 3103-AEA, Arlington, VA 22203; (703) 358-2336 (phone); (703) 358-2548 (fax), or doug_hobbs@fws.gov (e-mail).

SUPPLEMENTARY INFORMATION:

Background

In accordance with the requirements of the Federal Advisory Committee Act, 5 U.S.C. App., we give notice that the Council will hold a teleconference on Monday, February 23, 2009, from 2 to 3 p.m.

The Council was formed in January 1993 to advise the Secretary of the Interior, through the Director of the U.S. Fish and Wildlife Service, on nationally significant recreational fishing, boating, and aquatic resource conservation issues. The Council represents the interests of the public and private sectors of the sport fishing, boating, and conservation communities and is organized to enhance partnerships among industry, constituency groups, and government. The 18-member Council, appointed by the Secretary of the Interior, includes the Service Director and the president of the Association of Fish and Wildlife Agencies, who both serve in ex officio capacities. Other Council members are directors from State agencies responsible for managing recreational fish and wildlife resources and individuals who represent the interests of saltwater and freshwater recreational fishing, recreational boating, the recreational fishing and boating industries, recreational fisheries resource conservation, Native American tribes, aquatic resource outreach and education, and tourism. Background information on the Council is available at http://www.fws.gov/sfbpc.

The Council will convene to: (1) Approve recommendations to the Director of the Fish and Wildlife Service for funding Fiscal Year 2009 Boating Infrastructure Grant proposals; and (2) to consider other Council business. We will post the final agenda on the Internet at http://www.fws.gov/sfbpc.

Procedures for Public Input

Format Requirements for Oral and Written Commenters

Whether you wish to comment orally or in written form, you must provide us with written copies of your comments. All written statements must be supplied to the Council Coordinator in both of the following formats:

• One hard copy with original signature, and

• One electronic copy via e-mail (acceptable file format: Adobe Acrobat PDF, WordPerfect, MS Word, MS PowerPoint, or Rich Text files in IBM-PC/Windows 98/2000/XP format).

Submitting Written Information for the Council To Consider

Speakers who wish to expand upon their oral statements or those who had wished to speak but could not be accommodated on the agenda are invited to submit written statements to the Council. Interested members of the public may submit relevant written information for the Council to consider during the public teleconference. We must receive all written statements by Monday, February 16, 2009, so that we can make the information available to the Council for their consideration prior to the teleconference.

Council Minutes

The Council Coordinator will maintain the teleconference's summary minutes, which will be available for public inspection at the location under FOR FURTHER INFORMATION CONTACT during regular business hours within 30 days after the teleconference. You may purchase personal copies for the cost of duplication.

Dated: January 21, 2009.
Rowan W. Gould,
Acting Director.

[FR Doc. E9-2312 Filed 2-3-09; 8:45 am]

BILLING CODE 4310-55-P